DEPARTMENT OF ENERGY

Federal Energy Regulatory Commission

Public Utility District No. 1 of Franklin County, Project No. 12116-001; Notice of Surrender of Preliminary Permit

August 8, 2003.

Take notice that Public Utility No. 1 of Franklin County, permittee for the proposed Esquatzel Hydroelectric Project, has requested that its preliminary permit be terminated. The permit was issued on February 7, 2002, and would have expired on January 31, 2005. The project would have been located at the termination of the Esquatzel Wasteway into the Columbia River in Franklin County, Washington.

The permittee filed the request on July 1, 2003, and the preliminary permit for Project No. 12116 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. 03-20967 Filed 8-15-03; 8:45 am]

BILLING CODE 6717-01-P